DEPARTMENT OF COMMERCE

International Trade Administration

[C-533-821]

Certain Hot-Rolled Carbon Steel Flat Products From India: Amended Final Results of Countervailing Duty Administrative Review Pursuant to Court Decision

AGENCY: Import Administration, International Trade Administration, Department of Commerce.

SUMMARY: On November 16, 2010, the Court of International Trade (CIT) issued an order in JSW Steel Limited v. United States, and United States Steel Corporation and Nucor Corporation, Court No. 08-00247, Order Of Judgment By Stipulation Of The Parties (November 16, 2010) (JSW) pertaining to the Department's agreement with JSW Steel Limited (JSW), setting the final countervailing rate for the period of review (POR) of January 1, 2006, through December 31, 2006 (2006 POR) to 76.88 percent, and specifying the future countervailing duty cash deposit rate to 76.88 percent for that company. The Department is amending the final results of the administrative review of the countervailing duty order on certain hot-rolled carbon steel flat products (HRCS) from India covering the 2006 POR, to reflect the CIT's order in JSW.

DATES: Effective Date: December 22, 2010.

FOR FURTHER INFORMATION CONTACT: Gayle Longest, AD/CVD Operations, Office 3, Import Administration, International Trade Administration, U.S. Department of Commerce, 14th Street and Constitution Avenue, NW., Washington, DC 20230; telephone (202) 482-3338.

SUPPLEMENTARY INFORMATION:

Background

On July 14, 2008, the Department published its final results in the countervailing duty administrative review of HRCS from India covering the POR of January 1, 2006, through December 31, 2006. See Certain Hot-Rolled Carbon Steel Flat Products From India: Final Results of Countervailing Duty Administrative Review, 73 FR 40295 (July 14, 2008) (Final Results), and accompanying Issues and Decision Memorandum (“I&D Memorandum”).

JSW filed a lawsuit challenging certain aspects of the final results concerning JSW. The Department entered into a settlement agreement with JSW.

Pursuant to the Order Of Judgment By Stipulation Of The Parties, the CIT directed the Department to: (1) Amend the Final Results with respect to JSW, setting the final countervailing duty rate for the 2006 POR to 76.88 percent, and specifying the future countervailing duty cash deposit rate for JSW to be 76.88 percent; (2) issue instructions to U.S. Customs and Border Protection (CBP) requiring the liquidation of the entries at issue at 76.88 percent; and (3) issue instructions to CBP establishing the future cash deposit rate for JSW at the rate of 76.88 percent, which will remain in place until it is changed by the Department in a future administrative review of the firm with respect to the countervailing duty order on HRCS from India.

Amended Final Results

In accordance with the CIT's order, the countervailing duty rate for JSW for the period January 1, 2006, through December 31, 2006, is 76.88 percent. In addition, the cash deposit rate for JSW is 76.88 percent.

Assessment of Duties

In accordance with the CIT's order, U.S. Customs and Border Protection (CBP) shall assess countervailing duties on all appropriate entries covered by these amended final results. The Department intends to issue liquidation instructions to CBP 15 days after publication of these amended final results in the Federal Register. The Department will also instruct CBP to collect cash deposits of estimated countervailing duties on shipments of the subject merchandise produced by JSW, entered or withdrawn from warehouse, for consumption on or after the date of publication of these amended final results.

Notification

We are issuing and publishing these amended final results of administrative review in accordance with sections 751(a)(1) and 777(i) of the Tariff Act of 1930, as amended.

Dated: December 16, 2010.
Ronald K. Lorentzen,
Deputy Assistant Secretary for Import Administration.

[FR Doc. 2010-32170 Filed 12-21-10; 8:45 am]

BILLING CODE 3510-DS-P